ENVIRONMENTAL PROTECTION AGENCY

[EPA-HQ-OPP-2009-1017; FRL-8878-7]

Product Cancellation Order for Certain Pesticide Registrations

Correction

In notice document number 2011-17089, appearing on pages 40359-40365, in the issue of Friday, July 8, 2011, make the following corrections:

1. On page 40363, Table 3—Cancellations of Products Due to Non-Payment of Maintenance Fees—Continued, column number one, “EPA Registration No.,” last row, “WA080009” should read “WAO70009.”

2. On page 40364, Table 3—Cancellations of Products Due to Non-Payment of Maintenance Fees—Continued, in the first column, “EPA Registration No.,” and third row, “WA080011” should read “WA070011.”

[FR Doc. C1-2011-17089 Filed 7-25-11; 8:45 am]

BILLING CODE 1505-50-D